ENVIRONMENTAL PROTECTION AGENCY

[FRL-12127-01-OAR]

Official Release of the MOVES5 Motor Vehicle Emissions Model for SIPs and Transportation Conformity

AGENCY: Environmental Protection Agency (EPA).

ACTION: Notice of availability.

SUMMARY: The Environmental Protection Agency (EPA) is announcing the availability of the latest major release of the MOtor Vehicle Emission Simulator (MOVES) model, MOVES5, for official purposes outside of California. MOVES5 is the latest version of EPA's state-of-the science modeling tool for estimating emissions from cars, trucks, buses, and motorcycles based on the latest data and regulations. MOVES5 is available for use in state implementation plans (SIPs) and transportation conformity analyses outside of California. This notice starts a two-year grace period before MOVES5 will need to be used as the latest EPA emissions model for transportation conformity determinations outside of California, both in new regional emissions analyses and in new hot-spot analyses.

DATES: EPA's announcement of the MOVES5 emissions model for SIPs and transportation conformity determinations in states other than California is effective December 11, 2024. This announcement starts a two-year transportation conformity grace period that ends on December 11, 2026. After this date, MOVES5 will need to be used as the latest EPA emissions model for new transportation conformity analyses outside of California in both regional emissions analyses and in hot-spot analysis.

FOR FURTHER INFORMATION CONTACT: For technical model questions regarding the official release or use of MOVES5, please email EPA at mobile@epa.gov. For questions about SIPs, contact Kaitlyn Leffert at Leffert.Kaitlyn@epa.gov. For transportation conformity questions, contact Aaron Letterly at Letterly.Aaron@epa.gov.

SUPPLEMENTARY INFORMATION:

The contents of this notice are as follows:

I. General Information

II. What is MOVES5?

III. SIPs and MOVES5

IV. Transportation Conformity and MOVES5

I. General Information

A. Does this action apply to me?

Entities potentially impacted by the approval of MOVES5 are those that adopt, approve, or fund transportation plans, transportation improvement programs (TIPs), or transportation projects as defined in 40 CFR 93.101 and those that develop and submit SIPs to EPA. Regulated categories and entities potentially affected by today's action include:

Category | Examples of regulated entities
Local government | Local air quality and transportation agencies, including metropolitan planning organizations (MPOs).
State government | State air quality and transportation agencies.
Federal government | Department of Transportation (Federal Highway Administration (FHWA) and Federal Transit Administration (FTA)).

This table is not intended to be exhaustive, but rather provides a guide for readers regarding entities likely to be affected by the release of MOVES. Other entities not listed in the table could also be affected. To determine whether your organization is affected by this action, you should carefully examine the transportation conformity applicability requirements in 40 CFR 93.102. If you have questions regarding the applicability of this action to a particular entity, consult the persons listed in the preceding FOR FURTHER INFORMATION CONTACT section.

B. How can I get copies of MOVES5 and other related information?

The official version of the MOVES5 model and supporting documentation are available on EPA's MOVES website: https://www.epa.gov/moves. Individuals who want to receive EPA announcements related to the MOVES5 model can subscribe to the EPA-MOBILENEWS email listserv, which can be done at EPA's website at: https://www.epa.gov/moves/forms/epa-mobilenews-listserv.

Available guidance on how to apply MOVES5 for SIPs and transportation conformity purposes can be found on EPA's transportation conformity website, https://www.epa.gov/state-and-local-transportation/policy-and-technical-guidance-state-and-local-transportation,¹ including the “MOVES5 Policy Guidance: Use of MOVES for State Implementation Plan Development, Transportation Conformity, General Conformity, and Other Purposes.” (EPA-420-B-24-038, November 2024).

¹ Interested parties can find these documents under the “Emission Models and Conformity” and “Project-Level Conformity” topics on this website.

EPA will continue to update these websites as other MOVES support materials and guidance are developed or updated.

II. What is MOVES5?

MOVES5 is EPA's latest official motor vehicle emissions model for state and local agencies to estimate volatile organic compounds (VOCs), nitrogen oxides (NOX), particulate matter (PM2.5 and PM10), carbon monoxide (CO), and other pollutants and precursors from cars, trucks, buses, and motorcycles for SIP purposes and transportation conformity determinations outside of California.² The model is based on analyses of millions of emission test results and considerable advances in the Agency's understanding of vehicle emissions. MOVES5 is a major revision to the MOVES series of models. This model is the fifth major MOVES release.³

² MOVES can also model emissions in the District of Columbia, Puerto Rico, and the U.S. Virgin Islands. Nonattainment and maintenance areas located in California use the latest approved version of the Emission FACtor (EMFAC) model.

³ For more information, see EPA's MOVES Versions in Limited Current Use website at https://www.epa.gov/moves/moves-versions-limited-current-use.

MOVES5 includes new regulations, features, and significant new data, as detailed in the MOVES5 technical reports. Notably, MOVES5 incorporates several important updates, including:

• Accounting for EPA's Light- and Medium-Duty Multi-Pollutant Rule with higher projected electric vehicle (EV) fractions and more stringent standards for carbon dioxide (CO2), PM, non-methane organic gases (NMOG) and NOX.⁴

⁴ See EPA's final rule, “Multi-Pollutant Emissions Standards for Model Years 2027 and Later Light-Duty and Medium-Duty Vehicles,” published in the Federal Register on April 18, 2024 (89 FR 27842).

• Accounting for EPA's Heavy-Duty Greenhouse Gas Emissions-Phase 3 Rule with higher projected EV fractions and updated energy consumption estimates for heavy-duty EVs.⁵

⁵ See EPA's final rule, “Greenhouse Gas Emissions Standards for Heavy-Duty Vehicles—Phase 3,” published in the Federal Register on April 22, 2024 (89 FR 29440).

• Incorporating new data on light-duty (LD) and heavy-duty (HD) brake wear emissions.

• Expanding detailed calculations to vehicles up to 40 years old, instead of 30.

• Updating onroad and nonroad fuel properties for calendar year 2021 and later.

• Updated historical and forecast default vehicle miles travelled (VMT), vehicle populations, age distributions, and fuel distributions.

For additional information on the updates included in MOVES5, please refer to the “Overview of EPA's MOtor Vehicle Emissions Simulator (MOVES5),” found at EPA's MOVES website. Specific information about MOVES5 inputs and algorithms can be found on EPA's websites for MOVES Onroad Technical Reports and MOVES Nonroad Technical Reports.⁶

⁶ For more information, see EPA's MOVES website: https://www.epa.gov/moves.

Like its predecessors, MOVES5 can estimate vehicle exhaust and evaporative emissions as well as brake wear and tire wear emissions for criteria pollutants and precursors. Also, like previous versions, MOVES5 does not estimate emissions of re-entrained road dust. To estimate emissions from re-entrained road dust, practitioners should continue to use the latest approved methodologies.⁷

⁷ See EPA's notice of availability, “Official Release of the January 2011 AP-42 Method for Estimating Re-Entrained Road Dust from Paved Roads,” published in the Federal Register on February 4, 2011 (76 FR 6328).

The structure of MOVES5 is fundamentally the same as MOVES4, although there are some minor differences, e.g., in the user interface. However, inputs developed by model users for previous versions of MOVES will need to be updated to work with MOVES5. Model run time may differ depending on the type of run and user inputs and computer configuration. As for emissions, EPA performed a comparison of onroad emissions from MOVES5 to emissions from MOVES4 using default information in MOVES5 at the national level, and for three sample urban counties with different local travel patterns and ambient conditions. In general, compared to MOVES4, MOVES5 emissions of NOX, PM2.5, VOC, and CO tend to be higher in the 2020s and 2030s. In the longer term, emissions of these pollutants in MOVES5 are lower due to the emissions reductions of new EPA regulations. Note that results will vary based on the pollutant selected and that area's local inputs.

III. SIPs and MOVES5

EPA has articulated its policy regarding the use of MOVES5 in SIP development in its “MOVES5 Policy Guidance: Use of MOVES for State Implementation Plan Development, Transportation Conformity, General Conformity, and Other Purposes” (EPA-420-B-24-038, November 2024). Today's notice highlights certain aspects of the guidance, but state and local governments should refer to the guidance for more detailed information on how and when to use MOVES5 in reasonable further progress SIPs, attainment demonstrations, maintenance plans, inventory updates, and other SIP submissions.

MOVES5 should be used in ozone, CO, PM, and nitrogen dioxide (NO2) SIP development as expeditiously as possible, as there is no grace period for the use of MOVES5 in SIPs. The Clean Air Act requires that SIP inventories and control measures be based on the most current information and applicable models that are available when a SIP is developed.⁸ States other than California should use the latest version of MOVES that is available at the time that a SIP is developed, which is now MOVES5. Using MOVES5 for SIPs that will be submitted in the future ensures that they are based on the most accurate estimates of emissions possible.

⁸ See Clean Air Act section 172(c)(3). Also see the discussion of emissions inventory requirements in the “Fine Particulate Matter National Ambient Air Quality Standards: State Implementation Plan Requirements” rule (81 FR 58029, August 24, 2016) and in the “Implementation of the 2015 National Ambient Air Quality Standards for Ozone: Nonattainment Area State Implementation Plan Requirements” rule (83 FR 63022, December 6, 2018).

However, EPA recognizes the time and level of effort involved in SIP development, so in cases where state and local agencies have already completed significant work on a SIP with MOVES4 (e.g., attainment modeling has already been completed with MOVES4), they may continue to rely on this earlier version. In addition, due to the fact that EPA is releasing multiple versions of MOVES in a short timeframe, MOVES3 may have already been used in SIP development. In areas where state and local agencies have already completed significant work on a SIP with MOVES3, MOVES3 may continue to be used in SIP development. EPA believes this would be only a limited number of cases. States should consult with their EPA Regional Office if they have questions about how MOVES5 affects SIPs under development in specific nonattainment or maintenance areas. Early consultation can facilitate EPA's adequacy finding for SIP motor vehicle emissions budgets for transportation conformity purposes or for the SIP approval process.

The Clean Air Act does not require states to revise submitted SIPs or SIPs that have already been approved simply because a new motor vehicle emissions model is now available.⁹ States can choose to update these SIPs with MOVES5, for example, if it is determined that it is appropriate to update motor vehicle emissions budgets (“budgets”) with the model for future conformity determinations. However, as stated above, states should use MOVES5 where SIP development is in its initial stages or has not progressed far enough along that switching from a previous model version would create a significant adverse impact on state resources.

⁹ Sierra Club v. EPA, 356 F.3d. 296, 308 (D.C. Cir. 2004) (“To require states to revise completed plans every time a new model is announced would lead to significant costs and potentially endless delays in the approval processes.”)

Incorporating MOVES5 into the SIP now could assist areas in mitigating possible transportation conformity difficulties in the future after the MOVES5 conformity grace period ends. New regional emissions analyses using EPA's emissions model that are started after the grace period is over must be based on MOVES5 (40 CFR 93.111), so having MOVES5-based SIP budgets in place at that time could provide more consistency with transportation conformity determinations. For complete explanations of how MOVES5 is to be implemented for SIP purposes, refer to the “MOVES5 Policy Guidance: Use of MOVES for State Implementation Plan Development, Transportation Conformity, General Conformity, and Other Purposes.” (EPA-420-B-24-038).

IV. Transportation Conformity and MOVES5

Transportation conformity is required under CAA section 176(c) (42 U.S.C. 7506(c)) to ensure that federally funded or approved highway and transit activities are consistent with (“conform to”) the purpose of the SIP. Conformity to the purpose of the SIP means that transportation activities will not cause or contribute to new air quality violations, worsen existing violations, or delay timely attainment of the relevant national ambient air quality standards (NAAQS) or any interim milestones. EPA's transportation conformity rule (40 CFR parts 51 and 93) establishes the criteria and procedures for determining whether metropolitan transportation plans, TIPs, and federally supported highway and transit projects conform to the SIP. Transportation conformity applies to designated nonattainment and maintenance areas ¹⁰ for transportation-related criteria pollutants: ozone, PM2.5, PM10, CO, and NO2.

¹⁰ “Maintenance areas” are those areas that were initially designated nonattainment for a criteria pollutant and subsequently redesignated to attainment after 1990. Maintenance areas have SIPs developed under CAA section 175A. (40 CFR 93.101).

In this notice, EPA is announcing the availability of MOVES5 for use in transportation conformity determinations outside of California. EPA is also establishing a two-year grace period before MOVES5 will need to be used in regional emissions analyses for transportation conformity determinations of transportation plans and transportation improvement programs (TIPs) ¹¹ and in hot-spot analyses for project-level transportation conformity determinations which use EPA's emissions model. The MOVES5 grace period for regional emissions and hot-spot analyses applies to the use of MOVES5 and any future minor revisions that occur during the grace period.

¹¹ The grace period also applies in the case that a regional emissions analysis is done for a project not from a conforming transportation plan and TIP (i.e., a project in an isolated rural area). See the transportation conformity rule at 40 CFR 93.101 for the definition of an isolated rural area and 40 CFR 93.109(g) for how conformity is done in an isolated rural area.

This MOVES5 grace period is separate and distinct from the two-year grace period established with the release of the previous version of the model, MOVES4. The two-year grace period established by EPA's September 2023 MOVES4 Notice of Availability in the Federal Register is unchanged by the release of MOVES5 and continues to be in effect until September 12, 2025.¹² For more information, see the MOVES4 Notice of Availability in the Federal Register and the “MOVES5 Policy Guidance: Use of MOVES for State Implementation Plan Development, Transportation Conformity, General Conformity, and Other Purposes” (EPA-420-B-24-038, November 2024).

¹² See EPA's Notice of Availability, “Official Release of the MOVES4 Motor Vehicle Emissions Model for SIPs and Transportation Conformity,” published in the Federal Register on September 12, 2023 (88 FR 62567).

The remainder of this section describes how the transportation conformity grace period was determined and summarizes how it will be implemented, including those circumstances when the MOVES5 grace period could be shorter than two years for regional emissions analyses. However, for complete explanations of how MOVES5 is to be implemented for transportation conformity, including details about using MOVES5 during the grace period, refer to the “MOVES5 Policy Guidance: Use of MOVES for State Implementation Plan Development, Transportation Conformity, General Conformity, and Other Purposes.” (EPA-420-B-24-038).

A. Why is EPA establishing a two-year conformity grace period?

Section 176(c)(1) of the Clean Air Act states that “. . . [t]he determination of conformity shall be based on the most recent estimates of emissions, and such estimates shall be determined from the most recent population, employment, travel, and congestion estimates . . .”. Additionally, the transportation conformity rule (40 CFR 93.111) requires conformity determinations to be based on “the latest emission estimation model available,” and further states that this requirement is satisfied if the most current version of EPA's motor vehicle emissions model is used in the conformity analysis. When EPA announces a new emissions model, such as MOVES5, we establish a grace period before the model needs to be used for transportation conformity purposes (40 CFR 93.111(b)). In consultation with DOT, EPA must consider the degree of change in the emissions model and the effects of the new model on the transportation planning process (40 CFR 93.111(b)(2)). The transportation conformity rule provides that EPA will establish a grace period for new emissions models of between three and 24 months (40 CFR 93.111(b)(1)).

EPA articulated its intentions for establishing the length of a conformity grace period in the preamble to the 1993 transportation conformity rule (November 24, 1993; 58 FR 62211):

“EPA and DOT [the Department of Transportation] will consider extending the grace period if the effects of the new emissions model are so significant that previous SIP demonstrations of what emission levels are consistent with attainment would be substantially affected. In such cases, States should have an opportunity to revise their SIPs before MPOs must use the model's new emissions factors.”

In consultation with DOT, EPA considered the degree of change in MOVES5 and the effects of the new model on the transportation planning process (40 CFR 93.111(b)(2)). EPA considered the time it will take state and local transportation and air quality agencies to conduct and provide technical support for analyses. State and local agencies will need to become familiar with the MOVES5 emissions model and will need to convert existing data for use in MOVES5. Since 1993, the fundamental purpose of section 93.111(b) of the transportation conformity rule has been to provide a sufficient amount of time for MPOs and other state and local agencies to learn and employ new emissions models. The transition to a new emissions model for conformity involves more than learning to use the new model and preparing input data and model output. After model start-up is complete, state and local agencies also need to consider how the model affects regional emissions analysis results and whether SIP and/or transportation plan/TIP changes are necessary to assure future conformity determinations.

The two-year conformity grace period also provides sufficient time for state and local agencies to learn and apply new technical guidance and training that reflect MOVES5. EPA provides guidance on how to run the latest MOVES version for SIP and transportation conformity purposes with the release of the model ¹³ and is working to update other guidance documents and training materials as quickly as possible. Generally, existing guidance and training applies to MOVES5 as noted on EPA's website, and EPA will notify MOVES5 users when updates to these materials are available. Training materials will continue to address different levels of state and local expertise.

¹³ Refer to EPA's “MOVES5 Technical Guidance: Using MOVES to Prepare Emission Inventories for State Implementation Plans and Transportation Conformity,” EPA-420-B-24-043, November 2024, available on EPA's website at: https://www.epa.gov/state-and-local-transportation/policy-and-technical-guidance-state-and-local-transportation.

In addition, many agencies will be implementing the transition to MOVES5 for PM and CO hot-spot analyses for applicable projects in those nonattainment and maintenance areas, with each analysis potentially involving multiple state and local agencies. States with CO hot-spot protocols that were previously approved into the SIP (40 CFR 93.123(a)(1)) that are based on a previous version of MOVES will need time to revise them. Finally, EPA considered the general time and monetary resource constraints in which state and local agencies currently operate. Upon considerations of all these factors, EPA is establishing a two-year grace period, which begins today and ends on December 11, 2026, before MOVES5 needs to be used for new transportation conformity analyses outside of California.

B. Circumstances When the MOVES5 Grace Period Will Be Shorter Than Two Years

The MOVES5 grace period for regional emissions analyses will be shorter than two years for a given pollutant if an area revises its SIP and motor vehicle emissions budgets with MOVES5 and such budgets have been found adequate or approved into the SIP prior to the end of the two-year grace period. In this case, the new regional emissions analysis must use MOVES5 if the conformity determination is based on a MOVES5-based budget (40 CFR 93.111).

Areas that are designated nonattainment or maintenance for more than one pollutant may rely on both MOVES5 and MOVES4 to determine conformity for different pollutants during the MOVES5 grace period. For example, if an area revises a previously submitted (but not approved) PM10 SIP with MOVES5 and EPA finds these revised MOVES5 budgets adequate for conformity, such budgets would apply for conformity on the effective date of the Federal Register notice announcing EPA's adequacy finding. In this example, if the area is nonattainment for PM10 and ozone, the MOVES5 grace period would end for PM10 regional emissions analyses once EPA found the new MOVES5-based SIP budgets adequate. However, MOVES4 could continue to be used for ozone-related regional emissions analyses begun before the end of the MOVES5 grace period.¹⁴ Refer to the MOVES5 Policy Guidance for additional details.

¹⁴ In this example, such an area would use MOVES5 to develop a regional emissions analysis for PM10 for comparison to the revised MOVES5-based budgets (e.g., PM10 budgets). The regional emissions analysis for ozone could be based on MOVES4 for the VOC and NOX budgets in the ozone SIP for the remainder of the conformity grace period.

In addition, the length of the MOVES5 grace period for hot-spot analyses would not be affected by an early submission of MOVES5-based budgets. In the above example, the two-year grace period for PM10 hot-spot analyses would continue to apply even if the grace period is shortened for regional PM10 conformity analyses. EPA Regional Offices should be consulted for questions regarding such situations in multi-pollutant areas.

In addition, in most cases, if the state revises previously approved budgets based on an earlier EPA emissions model, the revised MOVES5 budgets could not be used for conformity purposes until EPA approves them, i.e., approves the SIP revision. In general, submitted SIPs cannot supersede approved budgets until the submitted SIP is approved. See 40 CFR 93.118(e)(1).

However, 40 CFR 93.118(e)(1) allows an approved budget to be replaced by an adequate budget if EPA's approval of the initial budgets specifies that the budgets being approved may be replaced in the future by new adequate budgets. This flexibility has been used in limited situations in the past. In such cases, the MOVES5-based budgets would be used for conformity purposes once they have been found adequate, if requested by the state in its SIP submission and specified in EPA's SIP approval. States should consult with their EPA Regional Office to determine if this flexibility applies to their situation.

C. Use of MOVES5 for Regional Emissions Analyses During the Grace Period

During the conformity grace period, areas should use interagency consultation to examine how MOVES5 will impact their future transportation plan and TIP conformity determinations, including regional emissions analyses. Isolated rural areas should also consider how future regional emissions analyses will be affected when the MOVES5 grace period ends. Areas should carefully consider whether the SIP and budgets should be revised with MOVES5 or if transportation plans and TIPs should be revised before the end of the conformity grace period, since doing so may be necessary to ensure conformity in the future.

Finally, the transportation conformity rule provides flexibility for completing conformity determinations based on regional emissions analyses that use MOVES4 that are started before the end of the grace period. Regional emissions analyses that are started during the MOVES5 grace period can use either MOVES5 or MOVES4. The interagency consultation process should be used if it is unclear if a MOVES4-based analysis was begun before the end of the grace period. If there are questions about which model should be used in a conformity determination, the EPA Regional Office can be consulted.

When the grace period ends on December 11, 2026, MOVES5 will become the only EPA motor vehicle emissions model for regional emissions analyses for transportation conformity in states other than California. In general, this means that all new transportation plan and TIP conformity determinations started after the end of the grace period must be based on MOVES5, even if the SIP is based on MOVES4 or an older version of the MOVES model.

D. Use of MOVES5 for Project-Level Hot-Spot Analyses During the Conformity Grace Period

The MOVES5 grace period also applies to the use of MOVES5 for CO, PM10 and PM2.5 hot-spot analyses. Sections 93.116 and 93.123 of the transportation conformity regulation contain the requirements for when a hot-spot analysis is required for project-level conformity determinations.¹⁵ The transportation conformity rule provides flexibility for analyses that are started before the end of the grace period. A conformity determination for a transportation project may be based on a previous model if the analysis was begun before or during the grace period, and if the final environmental document for the project is issued no more than three years after the issuance of the draft environmental document (40 CFR 93.111(c)). Interagency consultation should be used if it is unclear if a previous analysis was begun before the end of the grace period. For CO, PM10 and PM2.5 hot-spot analyses that start during the MOVES5 grace period, project sponsors can choose to use MOVES5 or MOVES4. Any new CO, PM10 or PM2.5 hot-spot analyses for conformity purposes begun after the end of the MOVES5 grace period must be based on MOVES5.

¹⁵ In CO nonattainment and maintenance areas, a hot-spot analysis is required for all non-exempt projects, with quantitative hot-spot analyses being required for larger, congested intersections and other projects (40 CFR 93.123(a)(1)). In addition, in PM2.5 and PM10 nonattainment and maintenance areas, the transportation conformity regulation requires that a quantitative hot-spot analysis be completed for certain projects (see 40 CFR 93.123(b)(1)).

Interagency consultation must be used to evaluate and choose model(s) and associated methods and assumptions to be used in hot-spot analyses and regional emissions analyses (40 CFR 93.105(c)(1)(i)). This includes which MOVES version to use for a hot-spot analysis. EPA encourages project sponsors to use the consultation process to determine which option may be most appropriate for a given situation. For questions about how the MOVES grace periods apply in a project-level conformity determination, contact your EPA Regional Office.

EPA has guidance on how to conduct quantitative PM2.5 and PM10 hot-spot modeling for transportation conformity purposes, and on how to use MOVES for a CO hot-spot analysis. See EPA's “Project-level Conformity” website, https://www.epa.gov/state-and-local-transportation/project-level-conformity-and-hot-spot-analyses, for the latest information and guidance documents on how to conduct CO, PM10 and PM2.5 hot-spot modeling for transportation conformity purposes.

E. FHWA's CO Categorical Hot-Spot Finding

FHWA released the most recent CO categorical hot-spot finding for intersection projects on January 31, 2023, that was based on MOVES3.¹⁶ Until September 12, 2025, a project sponsor outside of California may continue to rely on the categorical finding for applicable projects that are determined through interagency consultation to be covered by the finding's parameters. However, any new CO hot-spot analyses for conformity purposes begun after September 12, 2025, would not be able to rely on the MOVES3-based January 2023 CO categorical hot-spot finding.

¹⁶ See https://www.epa.gov/state-and-local-transportation/project-level-conformity-and-hot-spot-analyses#cohotspot.

F. CO Hot-spot Protocols that Were Previously Approved into the SIP

Section 93.123(a)(1) of the transportation conformity regulation allows areas to develop alternate procedures for determining localized CO hot-spot analyses, when developed through interagency consultation and approved by the EPA Regional Administrator. Some states have chosen in the past to develop such procedures based on previous EPA emissions models.

During the MOVES5 grace period, areas with previously approved CO hot-spot protocols based on MOVES4 may continue to rely on these protocols. Once the MOVES5 two-year grace period ends, new CO hot-spot analyses for conformity purposes will need to be based onMOVES5 and thus may no longer rely on CO hot-spot protocols based on MOVES4 or earlier versions.

William Charmley,
Director, Assessment and Standards Division, Office of Transportation and Air Quality.

[FR Doc. 2024-29073 Filed 12-10-24; 8:45 am]

BILLING CODE 6560-50-P